DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional modes of transportation, etc.) are described in footnotes to the application number. Application numbers with the suffix “M” denote a modification request. These applications have been separated from the new application for special permits to facilitate processing.

DATES: Comments must be received on or before June 6, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for modification of special permit is published in accordance with Part 107 of the Federal hazardous materials transportation law (49 U.S.C. 5117(b); 49 CFR 1.53(b)).

Issued in Washington, DC, on May 12, 2008.
Delmer F. Billings,
Director, Office of Hazardous Materials, Special Permits and Approvals.

Application No. | Docket No. | Applicant | Regulation(s) affected | Nature of special permit thereof
MODIFICATION SPECIAL PERMITS
7951-M |  | Ball Aerosol & Specialty Container, Inc., Elgin, IL | 49 CFR 173.306(b)(1); 178.33; 175.3 | To modify the special permit to authorize an increase in rim vent release pressure from 210 psig to 235 psig.
12574-M | RSPA-00-8318 | Weldship Corporation, Bethlehem, PA | 49 CFR 172.302(c)(2), (3), (4), (5); Subpart F of Part 180 | To modify the special permit to authorize the transportation in commerce of additional Division 2.2 gases.
13280-M | RSPA-03-16152 | Ovonic Hydrogen Systems, L.L.C., Rochester Hills, MI | 49 CFR 173.301(a)(1), (d) and (f) | To modify the special permit to authorize cargo aircraft and cargo vessel as approved transportation.
13487-M | RSPA-04-17293 | University of Colorado, Denver, Aurora, CO | 49 CFR 173.197 | To modify the special permit to authorize the transportation of a Category A infectious substance in alternative packaging.
14298-M | PHMSA-06-23589 | Air Products and Chemicals, Inc., Allentown, PA | 49 CFR 180.209(a) and (b) | To modify the special permit to authorize DOT specification cylinders mounted on a trailer frame.
14509-M | PHMSA-07-28225 | Pacific Consolidated Industries, LLC, Riverside, CA | 49 CFR 173.302(a)(1), 173.304a(a)(1), 175.3 | To modify the special permit to authorize the transportation in commerce of additional Division 2.2 gases.
14574-M | PHMSA-07-29127 | KMG Electronic Chemicals (Former Grantee: Air Products), Houston, TX | 49 CFR 180.407(c), (e) and (f) | To modify the special permit to authorize teflon as an approved tank lining.
14631-M | PHMSA-08-0009 | iSi Automotive GmbH, Austria | 49 CFR 173.301, 173.302a and 173.305 | To modify the special permit to authorize the transportation in commerce of a Division 2.2 gas.

[FR Doc. E8-11226 Filed 5-21-08; 8:45 am]

BILLING CODE 4909-60-M